DEPARTMENT OF HEALTH AND HUMAN SERVICES

Centers for Medicare & Medicaid Services

[Document Identifier: CMS-8003, CMS-10633, CMS-10116, CMS-319, and CMS-10540]

Agency Information Collection Activities: Submission for OMB Review; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by October 26, 2020.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, you may make your request using one of following:

1. Access CMS' website address at website address at https://www.cms.gov/Regulations-and-Guidance/Legislation/PaperworkReductionActof1995/PRA-Listing.html.

2. Call the Reports Clearance Office at (410) 786-1326.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Reinstatement with change of a previously approved collection; Title of Information Collection: 1915(c) Home and Community Based Services (HCBS) Waiver Application; Use: We will use the web-based application to review and adjudicate individual waiver actions. The web-based application will also be used by states to submit and revise their waiver requests. Form Number: CMS-8003 (OMB control number 0938-0449); Frequency: Yearly; Affected Public: State, Local, or Tribal Governments; Number of Respondents: 47; Total Annual Responses: 71; Total Annual Hours: 6,005. (For policy questions regarding this collection contact Kathy Poisal at 410-786-5940.)

2. Type of Information Collection Request: Revision with change of a currently approved collection; Title of Information Collection: QIC Demonstration Evaluation Contractor (QDEC): Analyze Medicare Appeals to Conduct Formal Discussions and Reopenings with DME Suppliers and Part A Providers; Use: The Formal Telephone Discussion Demonstration and Reopenings Process is authorized under Section 402(a)(1)(F), U.S.C. 1395-1(a)(1)(F), of the Social Security Amendments of 1967. Primary and secondary data are needed to understand the effectiveness of the Demonstration in improving DME suppliers' and Part A providers' understanding of claims denial during Level 2 of the appeals process and facilitating more accurate claim submission over time. Primary data are necessary to determine, from the perspective of participating DME suppliers and Part A providers, the quality of the formal telephone discussions, satisfaction with the formal telephone discussion process, and the effect of the formal telephone discussions on submitting accurate claims. These data will inform an evaluation of the demonstration's effectiveness in achieving more accurate claims submissions, and thus reducing the number of claims CMS must process each year.

All information collected through the evaluation of the Formal Telephone Demonstration and Reopenings Process will be used by CMS through the QDEC (IMPAQ International and its partner, Palmetto GBA) to conduct analyses of satisfaction with the formal telephone discussions, and determine whether further engagement with the QIC improves understanding of the reasons for claim denials.

CMS will use the results of the evaluation to make informed policy decisions regarding the effectiveness of this demonstration and whether or not the demonstration should become a permanent part of the appeals process. Ultimately, if the information shows that DME suppliers and Part A providers were able to submit more accurate claims on the first pass, and a reduced number of claims are put through the appeals process, the Federal government could realize cost savings. Form Number: CMS-10633 (OMB control number: 0938-1348); Frequency: Yearly; Affected Public: Private Sector, Business or other for-profits; Number of Respondents: 5,288; Total Annual Responses: 5,288; Total Annual Hours: 950. (For policy questions regarding this collection contact Lynnsie G. Kelley at 410-786-1155.)

3. Type of Information Collection Request: Reinstatement without change of a previously approved collection; Title of Information Collection: Medicare Program: Conditions for Payment of Power Mobility Devices, including Power Wheelchairs and Power-Operated Vehicles; Use: We are renewing our request for approval for the collection requirements associated with the final rule, CMS-3017-F (71 FR 17021), which published on April 5, 2006, and required a face-to-face examination of the beneficiary by the physician or treating practitioner, a written prescription, and receipt of pertinent parts of the medical record by the supplier within 45 days after the face-to-face examination that the durable medical equipment (DME) suppliers maintain in their records and make available to CMS and its agents upon request. Form Number: CMS-10116 (OMB control number: 0938-0971); Frequency: Yearly; Affected Public: Business or other for-profits; Number of Respondents: 55,700; Number of Responses: 55,700; Total Annual Hours: 11,140. (For policy questions regarding this collection contact Rachel Katonak at 410-786-2118).

4. Type of Information Collection Request: Extension without change of a currently approved collection; Title of Information Collection: State Medicaid Eligibility Quality Control Sample Selection Lists; Use: The Medicaid Eligibility Quality Control (MEQC) program provides states a unique opportunity to improve the quality and accuracy of their Medicaid and Children's Health Insurance Program (CHIP) eligibility determinations. The MEQC program is intended to complement the Payment Error Rate Measurement (PERM) program by ensuring state operations make accurate and timely eligibility determinations so that Medicaid and CHIP services are appropriately provided to eligible individuals. Current regulations require that states review equal numbers of active cases and negative case actions (i.e., denials and terminations) through random sampling. Active case reviews are conducted to determine whether or not the sampled cases meet all current criteria and requirements for Medicaid or CHIP eligibility. Negative case reviews are conducted to determine if Medicaid and CHIP denials and terminations were appropriate and undertaken in accordance with due process. State Title XIX and Title XXI agencies are required to submit MEQC case level and CAP reports based on pilot findings in accordance with 42 CFR 431.816 and 431.820, respectively. The primary users of this information are state Medicaid (and where applicable CHIP) agencies and the Centers for Medicare & Medicaid Services. Form Number: CMS-319 (OMB control number: 0938-0147); Frequency: Occasionally; Affected Public: State, Local, or Tribal Governments; Number of Respondents: 34; Total Annual Responses: 34; Total Annual Hours: 1,900. For policy questions regarding this collection contact Camiel Rowe 410-786-0069.

5. Type of Information Collection Request: Revision of a currently approved collection; Title of Information Collection: Quality Improvement Strategy Implementation Plan, Progress Report Form and Modification Summary Supplement. Use: Section 1311(c)(1)(E) of the Patient Protection and Affordable Care Act requires qualified health plans (QHPs) offered through an Exchange must implement a quality improvement strategy (QIS) as described in section 1311(g)(1). Section 1311(g)(3) of the Affordable Care Act specifies the guidelines under Section 1311(g)(2) shall require the periodic reporting to the applicable Exchange the activities that a qualified health plan has conducted to implement a strategy which is described as a payment structure providing increased reimbursement or other incentives for improving health outcomes of plan enrollees, implementing activities to prevent hospital readmissions, improving patient safety and reducing medical errors, promoting wellness and health, and/or implementing activities to reduce health and health care disparities. CMS has created a separation of the QIS form into a separate Implementation Plan, Progress Report and Modification Summary which is intended to decrease overall burden on issuers. With these separate forms, issuers would no longer need to complete and resubmit an Implementation Plan every year (which is currently the process). Issuers would only submit the Implementation Plan form in the first year of a QIS, and then issuers would submit the Progress Report form in each subsequent year (with the Modification Summary Supplement as necessary). This adjustment will eliminate the need for issuers to enter and submit unchanged data, and allow them to focus their time on reporting new progress achieved for the QIS.

The QIS form will allow: (1) The Department of Health & Human Services (HHS) to evaluate the compliance and adequacy of QHP issuers' quality improvement efforts, as required by Section 1311(c) of the Affordable Care Act, and (2) HHS will use the issuers' validated information to evaluate the issuers' quality improvement strategies for compliance with the requirements of Section 1311(g) of the Affordable Care Act. Form Number: CMS-10540 (OMB Control Number: 0938-1286); Frequency: Annually; Affected Public: Public sector (Individuals and Households), Private sector (Business or other for-profits and Not-for-profit institutions); Number of Respondents: 250 respondents; Total Annual Responses: 250 responses; Total Annual Hours: 11,000. For policy questions regarding this collection contact Nidhi Singh Shah at 301-492-5110.

Dated: September 21, 2020.
William N. Parham, III,
Director, Paperwork Reduction Staff, Office of Strategic Operations and Regulatory Affairs.

[FR Doc. 2020-21092 Filed 9-23-20; 8:45 am]

BILLING CODE 4120-01-P